ENVIRONMENTAL PROTECTION AGENCY

[FRL-8716-6]

Notice of Public Meeting of the Interagency Steering Committee on Radiation Standards

AGENCY: Environmental Protection Agency.

ACTION: Notice of public meeting.

SUMMARY: The Environmental Protection Agency (EPA) will host a meeting of the Interagency Steering Committee on Radiation Standards (ISCORS) on October 1, 2008, in Washington, DC. The purpose of ISCORS is to foster early resolution and coordination of regulatory issues associated with radiation standards. Agencies represented as members of ISCORS include the following: EPA; Nuclear Regulatory Commission; Department of Energy; Department of Defense; Department of Transportation; Department of Homeland Security; Department of Labor's Occupational Safety and Health Administration; and the Department of Health and Human Services. ISCORS meeting observer agencies include the Office of Science and Technology Policy, Office of Management and Budget, Defense Nuclear Facilities Safety Board, as well as representatives from both the States of Illinois and Pennsylvania. ISCORS maintains several objectives: Facilitate a consensus on allowable levels of radiation risk to the public and workers; promote consistent and scientifically sound risk assessment and risk management approaches in setting and implementing standards for occupational and public protection from ionizing radiation; promote completeness and coherence of Federal standards for radiation protection; and identify interagency radiation protection issues and coordinate their resolution. ISCORS meetings include presentations by the chairs of the subcommittees and discussions of current radiation protection issues. Committee meetings normally involve pre-decisional intra-governmental discussions and, as such, are normally not open for observation by members of the public or media. One of the four ISCORS meetings each year is open to all interested members of the public. There will be time on the agenda for members of the public to provide comments. Summaries of previous ISCORS meetings are available at the ISCORS Web site, http://www.iscors.org. The final agenda for the October 2008 meeting will be posted on the Web site shortly before the meeting.

DATES: The meeting will be held on October 1, 2008, from 1 p.m. to 4 p.m.

ADDRESSES: The ISCORS meeting will be held in Room 1153 of the EPA East building at 1201 Constitution Avenue, NW., Washington, DC 20460. Attendees are required to present a photo ID such as a government agency photo identification badge or valid driver's license. Visitors and their belongings will be screened by EPA security guards. Visitors must sign the visitors log at the security desk and will be issued a visitors badge by the security guards to gain access to the meeting.

FOR FURTHER INFORMATION CONTACT: Marisa Savoy, Radiation Protection Division, Office of Radiation and Indoor Air, Mailcode 6608J, Environmental Protection Agency, 1200 Pennsylvania Avenue, NW., Washington, DC 20460; telephone 202-343-9237; fax 202-343-2302; e-mail address savoy.marisa@epa.gov.

SUPPLEMENTARY INFORMATION: Visitor parking around the EPA East building is limited; however, the EPA East building is located adjacent to the Federal Triangle metro stop on the Blue and Orange Lines. Visit the ISCORS Web site, http://www.iscors.org for more detailed information.

Dated: September 10, 2008.
Jonathan Edwards,
Acting Director, Office of Radiation and Indoor Air.

[FR Doc. E8-21714 Filed 9-16-08; 8:45 am]

BILLING CODE 6560-50-P